DEPARTMENT OF STATE

Office of the Deputy Secretary of State

[Delegation of Authority 267-1]

Exceptions from Port-of-Entry Special Registration, Fingerprinting and Photographing (Class A Referrals)

By virtue of the authority vested in me by Delegation of Authority 245, and in accordance with 8 CFR 264.1(f), I hereby delegate to Richard H. Jones the authority to determine that special registration, fingerprinting and photographing requirements shall not apply to an individual nonimmigrant alien upon arrival in the United States. Such a determination may be made only for an individual nonimmigrant alien when Mr. Jones determines in writing that an exception from such requirements for such individual is in the national interest and will not compromise national security interests. Mr. Jones may exercise the delegated authority only during the period of his detail to the Coalition Provisional Authority in Iraq and only in his capacity as a State Department employee operating under the direction and supervision of the Secretary of State.

Notwithstanding any provision of this Delegation of Authority, the Secretary of State, the Deputy Secretary of State, the Under Secretary of State for Management, and the Assistant Secretary of State for Consular Affairs may at any time exercise any authority delegated by this delegation of authority.

Mr. Jones may not redelegate the authority delegated by this delegation.

The statutes, regulations, and procedures referenced in this delegation shall be deemed to be such statutes, regulations or procedures as amended from time to time.

This delegation is in addition to Delegations of Authority 253 and 254 regarding Exceptions from Port-of-Entry Special Registration, Fingerprinting and Photographing. This delegation supersedes Delegation of Authority 267.

This delegation shall be published in the Federal Register.

Dated: November 28, 2003.
Richard L. Armitage,
Deputy Secretary of State, Department of State.

[FR Doc. 03-31881 Filed 12-24-03; 8:45 am]

BILLING CODE 4710-10-P